Title 3—

The President

Proclamation 9589 of April 6, 2017

Education and Sharing Day, U.S.A., 2017

By the President of the United States of America

A Proclamation

At the core of the American Dream lies the belief that our futures are not pre-determined and can be improved through learning and hard work. On Education and Sharing Day, we acknowledge the critical role of families, schools, and religious and other civic institutions in nurturing in our children the values that enable them to realize the full scope of their ambitions.

Education and Sharing Day recognizes the remarkable efforts of Rabbi Menachem Mendel Schneerson, the Lubavitcher Rebbe, to use values-based education to drive our Nation's children toward the American Dream. As an educator, Rabbi Schneerson understood that education is incomplete if it is devoid of moral development. Working through a spirit of optimism, he strived to teach children to be honest, civil, respectful of differences, and self-disciplined, in addition to being intellectually rigorous.

On April 18, 1978, our Nation's first Education Day, U.S.A., Rabbi Schneerson wrote that “we can neither be satisfied nor slacken our efforts” so long as “there is still one child that does not receive an adequate education.” These words inspire us today, as they did then, to empower our children and share with each of them the opportunity and promise of America. It is up to us to support our children in realizing their hopes and to encourage them to reach their fullest potential.

NOW, THEREFORE, I, DONALD J. TRUMP, President of the United States of America, by virtue of the authority vested in me by the Constitution and the laws of the United States, do hereby proclaim April 7, 2017, as “Education and Sharing Day, U.S.A.” I call upon government officials, educators, volunteers, and all the people of the United States to observe this day with appropriate programs, ceremonies, and activities.

IN WITNESS WHEREOF, I have hereunto set my hand this sixth day of April, in the year of our Lord two thousand seventeen, and of the Independence of the United States of America the two hundred and forty-first.

[FR Doc. 2017-07471

Filed 4-10-17; 11:15 am]

Billing code 3295-F7-P